NATIONAL ARCHIVES AND RECORDS ADMINISTRATION

36 CFR Part 1280

RIN 3095-AA06

Public Use of NARA Facilities

AGENCY: National Archives and Records Administration.

ACTION: Final rule.

SUMMARY: NARA is revising its regulations for use of its facilities. This rule entirely rewrites and reorganizes this portion of NARA's regulations to incorporate several changes, and also to clarify it using plain language. The regulation has been updated to include new rules for public use of the National Archives at College Park, MD, and it also lowers the age at which an unaccompanied child can visit a NARA facility from 16 to 14 years old. This change conforms with an earlier revision of 36 CFR part 1254 that lowered the age at which an individual can conduct research in NARA facilities to 14 years old. This revised regulation governs the public's activity while on NARA property; however, it does not contain rules for conducting research at NARA facilities. Those rules are found in 36 CFR part 1254.

DATES: This rule is effective July 1, 2000.

FOR FURTHER INFORMATION CONTACT: Nancy Allard or Shawn Morton at (301) 713-7360.

SUPPLEMENTARY INFORMATION: NARA published a notice of proposed rulemaking on March 23, 2000 at 65 FR 15592. The comment period ended on May 22, 2000. NARA received no public comments.

Upon further consideration, we have withdrawn the proposed provisions for the use of the Exhibition Hall in the National Archives Building for outside events. Instead, we have modified Subpart D to clarify that we allow Federal, State, and local government entities to use the Exhibition Hall for official functions, with NARA as a cosponsor, and that we may use the Exhibition Hall for activities that further the NARA Strategic Plan. No other changes have been made to the rule.

Information Collections Subject to the Paperwork Reduction Act

The information collections in §§ 1280.48 and 1280.74 are subject to the Paperwork Reduction Act. Under this Act, no persons are required to respond to a collection of information unless it displays a valid OMB control number. OMB has approved the information collection in § 1280.48 with the control number 3095-0040. OMB has approved the information collection in § 1280.74 with the control number 3095-0043.

This rule is not a significant regulatory action for the purposes of Executive Order 12866. As required by the Regulatory Flexibility Act, it is hereby certified that this rule will not have a significant impact on a substantial number of small entities because this regulation will affect individuals wishing to visit a NARA facility, a small number of news organizations wishing to film, and organizations wishing to use NARA public areas for events. This rule does not have any federalism implications.

List of Subjects in 36 CFR Part 1280

Archives and records, Federal buildings and facilities, Reports and recordkeeping requirements.

For the reasons stated in the preamble, the National Archives and Records Administration revises 36 CFR part 1280 to read as follows:

PART 1280—PUBLIC USE OF NARA FACILITIES

Subpart A—What Are the General Rules of Conduct on NARA Property?
General Information on Using NARA Facilities
Sec.
1280.1 What is the purpose of this part?
1280.2 What property is under the control of the Archivist of the United States?
1280.4 Can children under the age of 14 use NARA facilities?
1280.6 May I bring a seeing-eye dog or other assistance animal?
1280.8 Will my belongings be searched?
1280.10 Are there special rules for driving on NARA property?
1280.12 Is parking available?
1280.14 May I use the shuttle bus to travel to the National Archives at College Park or to the National Archives Building in Washington, DC?
1280.16 Are there additional rules posted?
Prohibited Activities
1280.18 May I bring guns or other weapons onto NARA property?
1280.20 What is your policy on illegal drugs and alcohol?
1280.22 Is gambling allowed on NARA property?
1280.24 Is smoking allowed on NARA property?
1280.26 May I pass out fliers on NARA property?
1280.28 Where can I eat and drink on NARA property?
1280.30 Are soliciting, vending, and debt collection allowed on NARA property?
1280.32 What other behavior is not permitted?
Subpart B—What Are the Rules for Filming, Photographing, or Videotaping on NARA Property?
1280.40 Definitions.
1280.42 When do the rules in this subpart apply?
1280.44 May I film, photograph, or videotape on NARA property for commercial purposes?
1280.46 What are the rules for filming, photographing, or videotaping on NARA property for personal use?
1280.48 How do I apply to film, photograph, or videotape on NARA property for news purposes?
1280.50 What will I be allowed to film, photograph, or videotape for news purposes?
1280.52 What are the rules for filming, photographing, or videotaping on NARA property for news purposes?
Subpart C—What Are the Additional Rules for Using NARA Facilities in the Washington, DC, Area?
1280.60 Where do I enter the National Archives Building in Washington, DC?
1280.62 When is the Exhibition Hall open?
1280.64 What entrance should I use to enter the National Archives at College Park?
1280.66 May I use the National Archives Library?
1280.68 May I use the cafeteria at the National Archives at College Park?
Subpart D—How Do I Request to Use Washington, DC, Area NARA Facilities for an Event?
1280.70 When does NARA allow other groups to use its public areas for events?
1280.72 What are the general rules for using NARA public areas?
1280.74 How do I apply to use NARA public areas in Washington, DC, area facilities?
1280.76 What will I have to pay to use a NARA public area for an event?
1280.78 How will NARA handle my request to use a lecture room, the auditorium, the Theater, or the Archivist's Reception Room?
1280.80 May I ask to use the Exhibition Hall?
Subpart E—What Additional Rules Apply for Use of Facilities in Presidential Libraries?
1280.90 What are the rules of conduct while visiting the Presidential libraries?
1280.92 When are the Presidential library museums open to the public?
1280.94 When do Presidential libraries allow other groups to use their public areas for events?
1280.96 Supplemental rules.
Subpart F—What Additional Rules Apply for Use of Public Areas at Regional Records Services Facilities?
1280.100 What are the rules of conduct at NARA regional records services facilities?
1280.102 When do NARA regional records services facilities allow other groups to use their public areas for events?

Authority: 44 U.S.C. 2104(a).

Subpart A—What Are the General Rules of Conduct on NARA Property?

General Information on Using NARA Facilities

§ 1280.1 What is the purpose of this part?

(a) This part tells you what rules you must follow when you use property under the control of the Archivist of the United States (the National Archives Building, the National Archives at College Park, and the Presidential libraries).

(b) When you are using other NARA facilities, the General Services Administration (GSA) regulations, Conduct on Federal Property, at 41 CFR subpart 101-20.3 apply to you. These facilities are the NARA regional records services facilities, the Washington National Records Center in Suitland, MD, and the National Personnel Records Center in St. Louis, MO. The rules in Subpart B of this part also apply to you if you wish to film, take photographs, or make videotapes. The rules in Subpart F of this part also apply to you if you wish to use the NARA-assigned conference rooms in those facilities.

(c) If you are using records in a NARA research room in a NARA facility, you must also follow the rules in 36 CFR part 1254.

§ 1280.2 What property is under the control of the Archivist of the United States?

The following property is under the control of the Archivist of the United States and is defined as “NARA property” in this part 1280:

(a) The National Archives Building. Property under the control of the Archivist includes:

(1) The Pennsylvania Avenue, NW, entrance between 7th and 9th Streets including the area within the retaining walls on either side of the entrance, inclusive of the statues, and the steps and ramps leading up to the entrance of the building;

(2) On the 7th Street, 9th Street, and Constitution Avenue, NW, sides of the building, all property between the National Archives Building and the curb line of the street, including the sidewalks and other grounds, the steps leading up to the Constitution Avenue entrance, the Constitution Avenue entrance, and the portico area between the steps and the Constitution Avenue entrance.

(3) The National Park Service controls the areas on the Pennsylvania Avenue side of the National Archives Building that are not under the control of the Archivist of the United States.

(b) The National Archives at College Park. Property under control of the Archivist includes approximately 37 acres bounded:

(1) On the west by Adelphi Road;

(2) On the north by the Potomac Electric Power Company right-of-way;

(3) On the east by Metzerott Road; and

(4) On the south by the University of Maryland.

(c) The Presidential Libraries. Property under control of the Archivist includes the Presidential Libraries and Museums that are listed in 36 CFR 1253.3.

§ 1280.4 Can children under the age of 14 use NARA facilities?

Children under the age of 14 will be admitted to NARA facilities only if they are accompanied by an adult who will supervise them at all times while on NARA property. The director of a NARA facility may authorize a lower age limit for admission of unaccompanied children to meet special circumstances (e.g., students who have been given permission to conduct research without adult supervision).

§ 1280.6 May I bring a seeing-eye dog or other assistance animal?

Yes, persons with disabilities may bring guide dogs or other animals used for guidance and assistance onto NARA property. You may not bring any other animals into a NARA facility except for official purposes.

§ 1280.8 Will my belongings be searched?

Yes, at any time NARA may inspect all packages, briefcases, and other containers that you bring onto NARA property, including when you are entering or exiting NARA property.

§ 1280.10 Are there special rules for driving on NARA property?

(a) You must obey speed limits, posted signs, and other traffic laws, and park only in designated spaces.

(b) NARA will tow, at the owner's expense, any vehicle that is parked illegally. Except in emergencies, you may not park in spaces reserved for holders of NARA parking permits. If an emergency forces you to leave your vehicle in an illegal area, you must notify the security guards at that NARA facility as soon as possible. We will not tow your illegally parked car if you have notified a security guard of an emergency unless it is creating a hazard or blocking an entrance or an exit.

(c) We may deny any vehicle access to NARA property for public safety or security reasons.

§ 1280.12 Is parking available?

(a) The National Archives Building. There is no parking available for researchers or visitors to the National Archives Building. However, this building is easily accessible by bus or subway and there are several commercial parking lots located near the building.

(b) The National Archives at College Park. The National Archives at College Park has limited public parking space. The garage is open to the public on a first-come, first-served basis during the hours the research rooms are open. There is public bus service to this building. Individuals and groups visiting the National Archives at College Park are encouraged to use public transportation or car pool to get to the building as the parking lot is often full during our busiest hours.

(c) Regional records services facilities. Most regional records services facilities have onsite parking available for researchers. Parking at these facilities and at the Washington National Records Center is governed by GSA regulations, Management of Buildings and Grounds, found at 41 CFR part 101-20. The regional archives on Market Street in Philadelphia and the regional archives in New York City do not have onsite parking. However, there is ample parking in commercial parking garages near these facilities.

(d) Presidential Libraries. All of the Presidential Libraries have onsite parking for researchers and museum visitors. Some of the spaces are reserved for staff and for security reasons.

§ 1280.14 May I use the shuttle bus to travel to the National Archives at College Park or to the National Archives Building in Washington, DC?

The NARA shuttle, which travels concurrently each hour between the National Archives Building and the National Archives at College Park, is intended for NARA employees. Other Government employees on official business or researchers may also use the shuttle if space is available. The shuttle operates Monday through Friday, excluding Federal holidays, 8:00 a.m. to 5:00 p.m.

§ 1280.16 Are there additional rules posted?

Yes, there are additional rules posted on NARA property. You must, at all times while on NARA property, comply with official NARA signs and with the directions of the guards and NARA staff.

Prohibited Activities

§ 1280.18 May I bring guns or other weapons onto NARA property?

No, you may not bring firearms or other dangerous or deadly weapons either openly or concealed onto NARA property except for official business. You also may not bring explosives, or items intended to be used to fabricate an explosive or incendiary device, onto NARA property. State-issued concealed-carry permits are not valid on NARA property.

§ 1280.20 What is your policy on illegal drugs and alcohol?

You may not use or be in possession of illegal drugs on NARA property. You also may not enter NARA property while under the influence of illegal drugs or alcohol. Using alcoholic beverages on NARA property is prohibited except for occasions when the Archivist of the United States or his/her designee has granted an exemption in writing.

§ 1280.22 Is gambling allowed on NARA property?

(a) No, you may not participate in any type of gambling while on NARA property. This includes:

(1) Participating in games for money or other personal property;

(2) Operating gambling devices;

(3) Conducting a lottery or pool; or

(4) Selling or purchasing numbers tickets.

(b) This rule does not apply to licensed blind operators of vending facilities who are selling chances for any lottery set forth in a State law and conducted by an agency of a State as authorized by section 2(a)(5) of the Randolph-Sheppard Act (20 U.S.C. 107, et seq.)

§ 1280.24 Is smoking allowed on NARA property?

Smoking is not allowed inside any NARA facility.

§ 1280.26 May I pass out fliers on NARA property?

No, you may not distribute or post handbills, fliers, pamphlets or other materials on bulletin boards or elsewhere on NARA property, except in those spaces designated by NARA as public forums. This prohibition does not apply to displays or notices distributed as part of authorized Government activities or bulletin boards used by employees to post personal notices.

§ 1280.28 Where can I eat and drink on NARA property?

You may only eat and drink in designated areas in NARA facilities. Eating and drinking is prohibited in the research, records storage, and museum areas unless specifically authorized by the Archivist or designee.

§ 1280.30 Are soliciting, vending, and debt collection allowed on NARA property?

(a) No, on NARA property you may not:

(1) Solicit for personal, charitable, or commercial causes;

(2) Sell any products;

(3) Display or distribute commercial advertising; or

(4) Collect private debts.

(b) If you are a NARA employee or contractor, you may participate in national or local drives for funds for welfare, health or other purposes that are authorized by the Office of Personnel Management and/or approved by NARA (e.g. the Combined Federal Campaign). Also, nothing in this section prohibits employees from activities permitted under the Standards of Ethical Conduct and Office of Government Ethics rules.

§ 1280.32 What other behavior is not permitted?

We reserve the right to remove anyone from NARA property who is:

(a) Stealing NARA property;

(b) Willfully damaging or destroying NARA property;

(c) Creating any hazard to persons or things;

(d) Throwing anything from or at a NARA building;

(e) Improperly disposing of rubbish.

(f) Acting in a disorderly fashion;

(g) Acting in a manner that creates a loud or unusual noise or a nuisance;

(h) Acting in a manner that unreasonably obstructs the usual use of NARA facilities:

(i) Acting in a manner that otherwise impedes or disrupts the performance of official duties by Government and contract employees;

(j) Acting in a manner that prevents the general public from obtaining NARA-provided services in a timely manner; or

(k) Loitering.

Subpart B—What Are the Rules for Filming, Photographing, or Videotaping on NARA Property?

§ 1280.40 Definitions.

(a) Filming, photographing, or videotaping for commercial purposes. Any filming, photographing, or videotaping to promote commercial enterprises or commodities.

(b) News filming, photographing, or videotaping. Any filming, photographing, or videotaping done by a commercial or non-profit news organization that is intended for use in a television or radio news broadcast, newspaper, or periodical.

(c) Personal use filming, photographing, or videotaping. Any filming, photographing, or videotaping intended solely for personal use that will not be commercially distributed.

§ 1280.42 When do the rules in this subpart apply?

(a) These rules apply to anyone who is filming, photographing, or videotaping inside any NARA-run facility and while on NARA property.

(b) Filming, photographing, and videotaping on the grounds of any NARA regional records services facility, or on the grounds surrounding the Washington National Records Center are governed by GSA regulations, Management of Buildings and Grounds, found at 41 CFR part 101-20, and must be approved by a GSA official.

§ 1280.44 May I film, photograph, or videotape on NARA property for commercial purposes?

No, filming, photographing, and videotaping on NARA property for commercial purposes is prohibited.

§ 1280.46 What are the rules for filming, photographing, or videotaping on NARA property for personal use?

(a) You may film, photograph, or videotape outside a NARA facility so long as you do not impede vehicular or pedestrian traffic.

(b) You may film, photograph, or videotape inside a NARA facility during regular business hours in public areas, including research rooms and exhibition areas, under the following conditions:

(1) You may not use a flash or other supplemental lighting;

(2) You may not use a tripod or similar equipment; and

(3) You may not film, photograph, or videotape while on the interior steps or ramp leading to the Declaration of Independence, the Constitution, and the Bill of Rights in the Exhibition Hall of the National Archives Building.

§ 1280.48 How do I apply to film, photograph, or videotape on NARA property for news purposes?

(a) If you wish to film, photograph, or videotape for news purposes at the National Archives Building, the National Archives at College Park, or the Washington National Records Center, you must request permission from the NARA Public Affairs Officer, 8601 Adelphi Road, College Park, Maryland, 20740-6001.

(b) If you wish to film, photograph, or videotape for news purposes at a Presidential library or at a regional records services facility, you must contact the director of the library (see 36 CFR 1253.3 for contact information) or regional records services facility (see 36 CFR 1253.6 for contact information) to request permission.

(c) Your request for permission to film, photograph, or videotape for news purposes must contain the following information:

(1) The name of the organization you are working for;

(2) Areas you wish to film, photograph, or videotape;

(3) Documents, if any, you wish to film;

(4) The purpose of the project you are working on;

(5) What you intend to do with the film, photograph, or videotape; and

(6) How long you will need to complete your work on NARA property.

(d) You must request permission at least one week in advance of your desired filming date. If you make a request within a shorter time period, we may not be able to accommodate your request.

(e) OMB control number 3095—0040 has been assigned to the information collection contained in this section.

(f) This section does not apply to you if you have permission to use your own microfilming equipment to film archival records and donated historical materials under the provisions of 36 CFR 1254.90 through 1254.102. You must follow the procedures in 36 CFR part 1254 for permission to film archival records and donated materials for research purposes or for microfilm publications.

§ 1280.50 What will I be allowed to film, photograph, or videotape for news purposes?

(a) NARA will permit you to film, photograph, or videotape sections of the interior or exterior of any NARA facility only for stories about:

(1) NARA programs;

(2) NARA exhibits;

(3) NARA holdings;

(4) NARA services;

(5) A former President;

(6) A researcher who has made or is making use of NARA holdings (provided that the researcher also approves your request); or

(7) Any other NARA-related activity approved by the appropriate NARA representative.

(b) NARA reserves the right to reject any request that does not meet the criteria set forth in 36 CFR 1280.50(a) and (c) or because of scheduling or staffing constraints.

(c) We will not grant you permission to film, photograph, or videotape if you intend to use the film, photographs, or videotape for commercial, partisan political, sectarian, or similar activities.

§ 1280.52 What are the rules for filming, photographing, or videotaping on NARA property for news purposes?

The following conditions and restrictions apply to anyone that has been granted permission to film, photograph, or videotape for news purposes under Subpart B:

(a) NARA may limit or prohibit use of artificial light in connection with the filming, photographing, or videotaping of documents for news purposes. You may not use any supplemental lighting devices while filming, photographing, or videotaping inside a NARA facility in the Washington, DC, area without the prior permission of the NARA Public Affairs Officer. If the Public Affairs Officer approves your use of artificial lighting in the Exhibition Hall, NARA will use facsimiles in place of the Declaration of Independence, the Constitution, and the Bill of Rights. If NARA approves your use of high intensity lighting, NARA will cover or replace with facsimiles all other exhibited documents that fall within the boundaries of such illumination. You may not use any supplemental lighting devices at the Presidential Libraries and the regional records services facilities without permission from a NARA representative at that facility.

(b) On a case-by-case basis, the Public Affairs Officer or other appropriate NARA representative may grant you permission to film, photograph, or videotape in stack areas containing unclassified records.

(c) While filming, photographing, or videotaping, you are liable for injuries to people or property that result from your activities on NARA property.

(d) At all times while on NARA property, you must conduct your activities in accordance with all applicable NARA regulations contained in this part.

(e) Your filming, photographing, or videotaping activity may not impede people who are entering or exiting any NARA facility unless otherwise authorized by the facility's director, or by the NARA Public Affairs Officer for Washington, DC, area facilities.

(f) You must be accompanied by a NARA staff member when filming, photographing, or videotaping the interior of any NARA facility.

(g) NARA will approve your request to do press interviews of NARA personnel on NARA property only when such employees are being interviewed in connection with official business. Interviews with NARA staff and researchers may take place only in areas designated by the NARA Public Affairs Officer for Washington, DC, area facilities, or by the appropriate NARA representative at other NARA facilities.

(h) You may film and photograph documents only in those areas which the NARA Public Affairs Staff designates in the National Archives Building, the National Archives at College Park, or the Washington National Records Center or in those areas designated as appropriate by the staff liaison at other NARA facilities.

(i) We will limit your film and photography sessions to two hours.

(j) You may not state or imply that NARA approves of or will sponsor:

(1) Your activities or views; or

(2) The uses to which you put images depicting any NARA facility.

Subpart C—What Are the Additional Rules for Using NARA Facilities in the Washington, DC, Area?

§ 1280.60 Where do I enter the National Archives Building in Washington, DC?

(a) To conduct research or official business, you must enter the Pennsylvania Avenue entrance of the National Archives Building.

(b) To visit the Exhibition Hall of the National Archives Building, you must enter through the Constitution Avenue entrance. However, the guards are authorized to admit through the Pennsylvania Avenue entrance and the Main Floor gates visitors who:

(1) Are using wheelchairs or other medical appliances;

(2) Are pushing strollers; or

(3) Have other medical or physical conditions that preclude using the steps at the Constitution Avenue entrance.

§ 1280.62 When is the Exhibition Hall open?

You may enter the Exhibition Hall from 10 a.m. to 9 p.m. except during winter months (the day after Labor Day through March 31) when the Exhibition Hall closes at 5:30 p.m. The Archivist of the United States reserves the authority to close the Exhibition Hall to the public at any time for special events or other purposes. The building is closed on December 25.

§ 1280.64 What entrance should I use to enter the National Archives at College Park?

You may enter the National Archives at College Park facility only through the main entrance on Adelphi Road. This entrance will be open to visitors during normal business hours described in 36 CFR 1253.2. Commercial deliveries must be made at the loading dock which is accessible only from Metzerott Road.

§ 1280.66 May I use the National Archives Library?

The National Archives Library facilities in the National Archives Building and in the National Archives at College Park are operated to meet the needs of researchers and NARA staff members. If you are not conducting research in archival materials at NARA, NARA Library staff will refer you to public libraries and other possible sources for such published materials.

§ 1280.68 May I use the cafeteria at the National Archives at College Park?

Yes, the cafeteria at the National Archives at College Park is open to the public during normal business hours.

Subpart D—How Do I Request to Use Washington, DC, Area NARA Facilities for an Event?

§ 1280.70 When does NARA allow other groups to use its public areas for events?

(a) All public areas in NARA facilities are intended for official NARA functions. However, if NARA does not have an event scheduled in a particular area, we may allow the use of that area for an event sponsored by another Federal agency or private group. The event must comply with the conditions in this subpart.

(b) In the National Archives Building, you may request to use the following areas:

Area | Capacity
Theater | 216 persons.
Archivist's reception room | 70 to 150 persons.
Conference rooms | 30 to 70 persons.

(c) In the National Archives at College Park, you may request to use the following areas:

Area | Capacity
Auditorium | 332 persons.
Lecture rooms | 30 to 70 persons (or up to 300 with all dividers removed).

§ 1280.72 What are the general rules for using NARA public areas?

You must adhere to the following rules when using any NARA facility for an event:

(a) Any use of NARA public areas for an event must be for the benefit of or in connection with the archival and records activities administered by NARA and must be consistent with the public perception of NARA as a research and cultural institution as articulated in our Strategic Plan.

(b) The event must be sponsored, cosponsored, or authorized by NARA.

(c) You are not allowed to charge an admission fee or make any indirect assessment for admission, and you may not otherwise collect money at the event unless specifically authorized by the Archivist of the United States for special not-for-profit events which are held by organizations sponsored by NARA. Commercial advertising or the sale of any items is not permitted.

(d) No areas on NARA property may be used to promote commercial enterprises or products or for partisan political, sectarian, or similar purposes.

(e) Use of NARA public areas will not be authorized for any organization or group that engages in discriminatory practices proscribed by the Civil Rights Act of 1964, as amended.

(f) You must not misrepresent your identity to the public nor conduct any activities in a misleading or fraudulent manner.

(g) You must ensure that no Government property is destroyed, displaced, or damaged during your use of NARA public areas. You must take prompt action to replace, return, restore, repair or repay NARA for any damage caused to Government property during the use of NARA facilities.

(h) Most areas are available from 8 a.m. until 9:30 p.m., Monday through Friday, and from 9:00 a.m. until 4:30 p.m. on Saturday. A NARA staff member must be present at all times when the NARA facility is in use. If the facilities and staff are available, NARA may approve requests for events that would be held before or after these hours.

(i) You must provide support people as needed to register guests, distribute approved literature, name tags, and other material; and

(j) NARA must approve any item that you plan to distribute or display at the event, and any notice or advertisement that mentions NARA, the National Archives Trust Fund Board, or incorporates any of the seals described in 36 CFR 1200.2.

§ 1280.74 How do I apply to use NARA public areas in Washington, DC, area facilities?

(a) How do I request to use a NARA public space for an event? To request the use of a NARA public space in the Washington, DC, area, you must complete NA Form 16008, Application for Use of Space. OMB control number 3095-0043 has been assigned to the information collection contained in this section. Copies of the form are available from the Facilities and Materiel Management Services Division, National Archives and Records Administration, 8601 Adelphi Road, College Park, Maryland, 20740-6001. Completed forms must be sent to this address.

(b) When do I need to submit my request? You must submit requests for use of NARA public areas at least 30 calendar days before the proposed event is to occur.

§ 1280.76 What will I have to pay to use a NARA public area for an event?

(a) Non-Federal organizations will be required to make a contribution to the National Archives Trust Fund to maintain the public area and to cover the cost of additional cleaning, guard and other required services. NARA will determine how much your contribution will be, based upon the level of NARA-provided services for your event.

(b) Federal agencies using these spaces for official government functions must reimburse NARA only for the cost of additional cleaning, security, and other staff services.

(c) An estimate of the costs can be obtained by contacting the Facilities and Materiel Management Services Division, National Archives and Records Administration, 8601 Adelphi Road, College Park, Maryland, 20740-6001.

§ 1280.78 How will NARA handle my request to use a lecture room, the auditorium, the Theater, or the Archivist's Reception Room?

(a) When you request use of a NARA lecture room, auditorium, the Theater, or the Archivist's Reception Room, the Facilities and Materiel Management Services Division will review your request:

(1) To ensure that it meets all of the provisions in this subpart;

(2) To determine if the room you have requested is available on the date and time you have requested; and

(3) To determine the cost of the event.

(b) When the Facilities and Materiel Management Services Division has completed this review, they will notify you of their decision. They may ask for additional information before deciding whether or not to approve your event.

(c) NARA reserves the right to reject or require changes in any material, activity, or caterer you intend to use for the event.

§ 1280.80 May I ask to use the Exhibition Hall?

(a) The Exhibition Hall is primarily used for the public exhibition of the Charters of Freedom and other documents from NARA's holdings. NARA also uses the Exhibition Hall for activities that further its Strategic Plan. Therefore, the use of the Exhibition Hall for private events is not permitted. In rare circumstances, NARA does, upon application, permit other Federal agencies, quasi-Federal agencies, and State and local governments to use the Exhibition Hall for official functions, with NARA as a co-sponsor. Governmental groups that use the Exhibition Hall for official functions must reimburse NARA for the cost of additional cleaning, security, and other staff services.

Subpart E—What Additional Rules Apply for Use of Facilities in Presidential Libraries?

§ 1280.90 What are the rules of conduct while visiting the Presidential libraries?

In addition to the rules in Subpart A, when visiting the museums of the Presidential Libraries, you may be required to check all of your parcels and luggage in areas designated by Library staff.

§ 1280.92 When are the Presidential library museums open to the public?

(a) The hours of operation at Presidential Library museums vary. Please contact the individual facility you wish to visit for the hours of operation. See 36 CFR 1253.3 for Presidential Library contact information. All Presidential Library museums are closed on Thanksgiving, December 25, and January 1, with the exception of the Lyndon Baines Johnson Library Museum, which is closed only on December 25.

(b) See 36 CFR 1253.3 for the operating hours of the research rooms of the Presidential Libraries.

§ 1280.94 When do Presidential libraries allow other groups to use their public areas for events?

(a) Although Presidential Library buildings and grounds are intended primarily for the libraries' use in carrying out their programs, you may request the use of Presidential Library facilities when the proposed activity is:

(1) Sponsored, cosponsored, or authorized by the library;

(2) Conducted to further the library's interests; and

(3) Scheduled so as not to interfere with the normal operation of the library.

(b) Your event at the library must be for the benefit of or in connection with the mission and programs of the library and must be consistent with the public perception of the library as a research and cultural institution.

(c) To request the use of a library area, you must apply in writing to the library director (see 36 CFR 1253.3 for the address) and complete NA Form 16011, Application for Use of Space in Presidential Libraries. OMB control number 3095-0024 has been assigned to the information collection contained in this section.

(d) You may not use library facilities for any activities that involve:

(1) Profit making;

(2) Commercial advertising and sales;

(3) Partisan political activities;

(4) Sectarian activities, or other similar activities; or

(5) Any use inconsistent with those authorized in this section.

(e) You may not charge admission fees, indirect assessment, or take any other kind of monetary collection at the event. NARA will charge normal admission fees to the museum if that area is used for the event.

(f) You will be assessed additional charges by the library director to reimburse the Government for expenses incurred as a result of your use of the library facility.

§ 1280.96 Supplemental rules.

Library directors may establish appropriate supplemental rules governing use of Presidential libraries and adjacent buildings and areas under NARA control.

Subpart F—What Additional Rules Apply for Use of Public Areas at Regional Records Services Facilities?

§ 1280.100 What are the rules of conduct at NARA regional records services facilities?

While at any NARA regional records services facility, you are subject to the GSA regulations, Conduct on Federal Property (41 CFR subpart 101-20.3).

§ 1280.102 When do NARA regional records services facilities allow other groups to use their public areas for events?

(a) Although NARA regional records services facility auditoriums and other public spaces in the facility buildings and the facility grounds are intended primarily for the use of the NARA regional records services facility in carrying out its programs, you may request to use one of these areas for lectures, seminars, meetings, and similar activities when these activities are:

(1) Sponsored, cosponsored, or authorized by the NARA regional records services facility;

(2) To further NARA's interests; and

(3) Scheduled so as not to interfere with the normal operation of the NARA regional records services facility.

(b) Your event at the NARA regional records services facility must be for the benefit of or in connection with the mission and programs of NARA.

(c) You must ask permission to use a public area at a NARA regional records services facility from the director of that facility (see 36 CFR 1253.6 for a list of addresses).

(d) NARA regional records services facilities will not allow use of any auditoriums or other public spaces for any activities that involve:

(1) Profit making;

(2) Commercial advertising and sales;

(3) Partisan political activities;

(4) Sectarian activities, or other similar activities; or

(5) Any use inconsistent with those authorized in this section.

(e) You may not charge admission fees, indirect assessment, or take any other kind of monetary collection at the event.

(f) You will be assessed a charge by the facility director to reimburse the Government for expenses incurred as a result of the your use of the facility.

Dated: May 26, 2000.
John W. Carlin,
Archivist of the United States.

[FR Doc. 00-13810 Filed 5-31-00; 8:45 am]

BILLING CODE 7515-01-P